DEPARTMENT OF COMMERCE

International Trade Administration

[C-533-829]

Prestressed Concrete Steel Wire Strand from India: Extension of Time Limit for Preliminary Determination in Countervailing Duty Investigation

AGENCY: Import Administration, International Trade Administration, Department of Commerce.

ACTION: Notice of Extension of Time Limit for Preliminary Determination in Countervailing Duty Investigation.

EFFECTIVE DATE: April 7, 2003.

SUMMARY: The Department of Commerce is extending the time limit of the preliminary determination in the countervailing duty (CVD) investigation of prestressed concrete steel wire strand from India from April 28, 2003 to June 30, 2003. This extension is made pursuant to section 703(c)(1)(B) of the Tariff Act of 1930, as amended by the Uruguay Round Agreements Act (“the Act”).

FOR FURTHER INFORMATION CONTACT: Robert Copyak, Alicia Kinsey, or Jim Neel, Office of AD/CVD Enforcement VI, Group II, Import Administration, International Trade Administration, U.S. Department of Commerce, 14th Street and Constitution Ave, NW., Washington, DC 20230; telephone: 202-482-2209, (202) 482-4793 or 202-482-4161, respectively.

SUPPLEMENTARY INFORMATION:

Extension of Due Date for Preliminary Determination

On February 20, 2003, the Department of Commerce (“the Department”) initiated the CVD investigation of prestressed concrete steel wire strand from India. See Notice of Initiation of Countervailing Duty Investigation: Prestressed Concrete Steel Wire Strand from India, 68 FR 9058 (February 27, 2003). Currently, the preliminary determination is due no later than April 28, 2003. However, pursuant to section 703(c)(1)(B) of the Act, we have determined that this investigation is “extraordinarily complicated” and are therefore extending the due date for the preliminary determinations by 63 days to no later than June 30, 2003.

Under section 703(c)(1)(B), the Department can extend the period for reaching a preliminary determination until not later than the 130th day after the date on which the administering authority initiates an investigation if:

(B) the administering authority concludes that the parties concerned are cooperating and determines that

(i) the case is extraordinarily complicated by reason of

(I) the number and complexity of the alleged countervailable subsidy practices;

(II) the novelty of the issues presented;

(III) the need to determine the extent to which particular countervailable subsidies are used by individual manufacturers, producers, and exporters; or

(IV) the number of firms whose activities must be investigated; and

(ii) additional time is necessary to make the preliminary determination.

We find that thus far in this investigation all concerned parties are cooperating. Moreover, we find that this case is extraordinarily complicated because of the number of alleged programs, and the complexity of each program. Subsidy programs have been alleged against the federal government, as well as four state governments, for a total of twenty-two programs requiring analysis. As a consequence, we determine that additional time is necessary to complete the preliminary determination. Therefore, pursuant to section 703(c)(1)(B) of the Act, we are postponing the preliminary determination in this investigation to no later than June 30, 2003.

This notice is issued and published pursuant to section 703(c)(2) of the Act.

Dated: March 31, 2003.
Joseph A. Spetrini,
Acting Assistant Secretary for Import Administration.

[FR Doc. 03-8412 Filed 4-4-03; 8:45 am]

BILLING CODE 3510-DS-S